DEPARTMENT OF HEALTH AND HUMAN SERVICES

National Institutes of Health

Center for Scientific Review; Amended Notice of Meeting

Notice is hereby given of a change in the meeting of the Center for Scientific Review Special Emphasis Panel, June 26, 2006, 8 a.m. to June 26, 2006, 5 p.m., Double Tree Bethesda, 8120 Wisconsin Ave., Bethesda, MD 20814 which was published in the Federal Register on May 23, 2006, 71 FR 29660-29661.

The meeting will be held at the Clarion Hotel Bethesda, 8400 Wisconsin Avenue, Bethesda, MD 20814. The meeting date and time remain the same. The meeting is closed to the public.

Dated: June 1, 2006.
Anna Snouffer,
Acting Director, Office of Federal Advisory Committee Policy.

[FR Doc. 06-5259 Filed 6-8-06; 8:45 am]

BILLING CODE 4140-01-M